ENVIRONMENTAL PROTECTION AGENCY

40 CFR Part 721 and 723

[EPA-HQ-OPPT-2014-0650; FRL-5605-04-OCSPP]

RIN 2070-AJ94

Significant New Uses of Chemical Substances; Updates to the Hazard Communication Program and Regulatory Framework; Minor Amendments to Reporting Requirements for Premanufacture Notices; Correction

AGENCY: Environmental Protection Agency (EPA).

ACTION: Final rule; correction.

SUMMARY: EPA is issuing a correction to a final rule that published in the Federal Register of Tuesday, July 5, 2022. The document revised the regulations governing significant new uses of chemical substances under the Toxic Substances Control Act (TSCA) to align with revisions that were made to the Occupational Safety and Health Administration (OSHA) Hazard Communications Standard (HCS) and changes to the OSHA Respiratory Protection Standard and the National Institute for Occupational Safety and Health (NIOSH) respirator certification requirements for the respiratory protection of workers from exposure to chemicals. EPA also amended the regulations governing Significant New Use Rules (SNURs) to address issues that have been identified by EPA and raised by stakeholders through public comments and made a minor change to reporting requirements for premanufacture notices (PMNs) and other TSCA notifications. This document corrects inadvertent errors in three of the amendatory instructions that appeared in the regulatory text potion of the final rule.

DATES: This correction is effective on September 6, 2022.

ADDRESSES: The docket for this action, identified by docket identification (ID) number EPA-HQ-OPPT-2014-0650, is available at https://www.regulations.gov or in-person at the EPA Docket Center (EPA/DC). Additional instructions on visiting the docket, along with more information about dockets generally, is available at https://www.epa.gov/dockets.

FOR FURTHER INFORMATION CONTACT: For technical information contact: Tyler Lloyd, New Chemicals Division (7405M), Office of Pollution Prevention and Toxics, Environmental Protection Agency, 1200 Pennsylvania Ave. NW, Washington, DC 20460-0001; telephone number: (202) 564-4016; email address: lloyd.tyler@epa.gov.

SUPPLEMENTARY INFORMATION: In FR Doc. 2022-13324 appearing on page 39756 in the Federal Register of Tuesday, July 5, 2022 (87 FR 39756; FRL-5605-02-OCSPP), the following corrections are made:

§ 721.11 [Corrected]

1. On page 39764, in the third column, in the amendatory instructions identified as number 20.a., the phrase “manufacturer, importer, or processor” is corrected to read “manufacture (including import) or process.”

2. On page 39764, in the third column, in the amendatory instructions identified as 20.b., the phrase “manufacture, import, or process” is corrected to read “manufacture (including import) or process.”

§ 721.80 [Corrected]

3. On page 39769, in the first column, in the amendatory instructions identified as number 28.b., the instructions “In paragraphs (p), (r), (s), (t) and (u) removing the word “manufacture” and adding in its place the word “manufacturing” is corrected to read “In paragraphs (p), (q), (r), (s), (t) and (u) removing the word “manufacture” and adding in its place the word “manufacturing”.”

§ 723.50 [Corrected]

4. On page 39769, in the third column, in the amendatory instructions identified as number 35., the instruction “Amend § 723.” is corrected to read “Amend § 723.50.”

Dated: July 27, 2022.
Denise Keehner,
Director, Office of Pollution Prevention and Toxics.

[FR Doc. 2022-16464 Filed 8-1-22; 8:45 am]

BILLING CODE 6560-50-P